DEPARTMENT OF DEFENSE

Department of the Navy

Notice of Intent To Grant Partially Exclusive License; 5D Analytics, LLC

AGENCY: DoD Department of the Navy, DoD.

ACTION: Notice.

SUMMARY: The invention listed below is assigned to the United States Government as represented by the Secretary of the Navy. The Department of the Navy hereby gives notice of its intent to grant to 5D Analytics, LLC, a revocable, nonassignable, partially exclusive license to practice in the United States, for the Full Life Cycle Status Information System (FLCSIS) (Navy Case No. 200,386) government-owned software for resource allocation planning and management. FLCSIS is designed around the Oracle Relational Database System and provides management information regarding acquired assets, their current configurations, projected configuration changes, and asset initialization information.

DATES: Anyone wishing to object to the grant of this license has fifteen (15) days from the date of this notice to file written objections along with supporting evidence, if any.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: July 21, 2016.
N.A. Hagerty-Ford,
Commander, Judge Advocate General's Corps, U.S. Navy, Federal Register Liaison Officer.

[FR Doc. 2016-17742 Filed 7-26-16; 8:45 am]

BILLING CODE 3810-FF-P